DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 20, 2010. Address written comments to Statutory Import Programs Staff, Room 3720, U.S. Department of Commerce, Washington, D.C. 20230. Applications may be examined between 8:30 A.M. and 5:00 P.M. at the U.S. Department of Commerce in Room 3720.

Docket Number: 10-022. Applicant: Virginia Commonwealth University, School of Medicine, Department of Physiology & Biophysics, 1101 East Marshall Street, P.O. Box 980551, Richmond, VA 23298-0551. Instrument: Electron Microscope. Manufacturer: FEI Company, The Netherlands. Intended Use: The instrument will be used to investigate the three dimensional structure of biological macromolecules, which will be observed under cryogenic conditions. Justification for Duty-Free Entry: There are no instruments of the same general category manufactured in the United States. Application accepted by Commissioner of Customs: August 3, 2010.

Dated: August 24, 2010.
Gregory W. Campbell,
Acting Director, IA Subsidies Enforcement Office.

[FR Doc. 2010-21559 Filed 8-30-10; 8:45 am]

BILLING CODE 3510-DS-S